DEPARTMENT OF ENERGY

Federal Energy Regulatory Commission

[Project No. 14633-0033]

New England Hydropower Company, LLC Albion Hydro, LLC; Notice of Transfer of Exemption

1. On December 28, 2020, New England Hydropower Company, LLC, exemptee for the Albion Dam Hydroelectric Project No. 14633, filed a letter notifying the Commission that the project was transferred from New England Hydropower Company, LLC to Albion Hydro, LLC. The exemption from licensing was originally issued on September 24, 2020.¹ The project would be located on the Blackstone River, near the towns of Cumberland and Lincoln, Providence County, Rhode Island. The transfer of an exemption does not require Commission approval.

¹ New England Hydropower Company, LLC, 172 FERC ¶ 62,167 (2020).

2. Albion Hydro, LLC is now the exemptee of the Albion Dam Hydroelectric Project No. 14633. All correspondence must be forwarded to: Mr. Michael C. Kerr, CEO, Albion Hydro, LLC, 100 Cummings Center Drive, Suite 451 C, Beverly, MA 01915, Phone: (978) 360-2547, Email: Michael@nehydropower.com.

Dated: February 11, 2021.
Nathaniel J. Davis, Sr.,
Deputy Secretary.

[FR Doc. 2021-03273 Filed 2-17-21; 8:45 am]

BILLING CODE 6717-01-P